DEPARTMENT OF AGRICULTURE

Forest Service

Proposed New Recreation Fee Sites

AGENCY: Forest Service, Agriculture (USDA).

ACTION: Notice.

SUMMARY: The Chattahoochee-Oconee National Forests are proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fees would be implemented no earlier than six months following the publication of this notice in the Federal Register.

ADDRESSES: Chattahoochee-Oconee National Forests, 1755 Cleveland Highway, Gainesville, GA 30501.

FOR FURTHER INFORMATION CONTACT: Karen Larsen, Recreation Fee Coordinator, 706-581-0821 or karen.larsen@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee sites in local newspapers and other local publications for public comment. Most of the new recreation fee revenues would be spent where they are collected to enhance the visitor experience at the new recreation fee sites.

An expanded amenity recreation fee of $10 per night would be charged for the Hickey Gap and Dry Creek Campgrounds. In addition, an expanded amenity recreation fee of $100 per night would be charged for rental of Morganton Point Cabin. A standard amenity recreation fee of $5 per day per vehicle would be charged at Woody Gap, Dockery Lake, and Mount Yonah developed recreation sites. The Chattahoochee-Oconee National Forests Annual Pass and the America the Beautiful—the National Parks and Federal Recreational Lands Pass would be honored at these standard amenity recreation fee sites.

Expenditures from recreation fee revenues collected at the new recreation fee sites would enhance recreation opportunities, improve customer service, and address maintenance needs. Once public involvement is complete, the new recreation fees will be reviewed by a Recreation Resource Advisory Committee (RAC) prior to a final decision and implementation. Reservations for campgrounds and cabins could be made online at www.recreation.gov or by calling 877-444-6777. Reservations would cost $8.00 per reservation.

Dated: November 21, 2023.
Troy Heithecker,
Associate Deputy Chief, National Forest System.

[FR Doc. 2023-26121 Filed 11-27-23; 8:45 am]

BILLING CODE 3411-15-P